DEPARTMENT OF DEFENSE

Department of the Army

Army Science Board; Notice of Open Meeting

In accordance with section 10(a)(2) of the Federal Advisory Committee Act (Pub. L. 92-463), announcement is made of the following Committee Meeting:

Name of Committee: Army Science Board (ABS).

Date of Meeting: April, 23, 24, 25, 2002.

Time of Meeting: 0800-1700 April 23, 2002; 0800-1700 April 24, 200; 0800-1100, April 25, 2002.

Place: SAIC.

Agenda: The Army Science Board's (ASB) Study “Ensuring the Financial Viability of the Objective Force” will have a Plenary Meeting on 23, 24 and 25 April. The meeting will be held at SAIC, 4001 Fairfax Drive, Arlington, VA. The Meeting will begin at 0800 hours on the 23rd and end at approximately 1100 hours on April 25th. For further information, please contact Major Robert Grier, 703-604-7478 or email: Robert.grier@saalt.army.mil

Wayne Joyner,
Program Support Specialist, Army Science Board.

[FR Doc. 02-9580 Filed 4-11-02; 8:45 am]

BILLING CODE 3710-08-M